DEPARTMENT OF AGRICULTURE

Rural Utilities Service

Announcement of Grant Application Deadlines and Funding Levels

AGENCY: Rural Utilities Service, USDA.

ACTION: Notice of solicitation of applications (NOSA).

SUMMARY: The Rural Utilities Service (RUS), an agency of the United States Department of Agriculture (USDA), herein referred to as RUS or the Agency, announces its Distance Learning and Telemedicine (DLT) Grant Program application window for Fiscal Year (FY) 2018. The Agency is publishing the amount of funding received in the appropriations act on its website at https://www.rd.usda.gov/newsroom/notices-solicitation-applications-nosas. Expenses incurred in developing applications will be at the applicant's risk.

In addition to announcing the application window, RUS announces the minimum and maximum amounts for DLT grants applicable for the fiscal year. The DLT Grant Program regulation can be found at 7 CFR part 1734, subpart B. This DLT Grant Program regulation replaced the previous DLT Grant Program regulation, 7 CFR part 1703, subpart E, on December 27, 2017.

DATES: Submit completed paper or electronic applications for grants according to the following deadlines:

• Paper submissions: Paper submissions must be postmarked and mailed, shipped, or sent overnight no later than June 4, 2018 to be eligible for FY 2018 grant funding. Late or incomplete applications will not be eligible for FY 2018 grant funding.

• Electronic submissions: Electronic submissions must be received no later than June 4, 2018 to be eligible for FY 2018 grant funding. Late or incomplete applications will not be eligible for FY 2018 grant funding.

• If the submission deadline falls on Saturday, Sunday, or a Federal holiday, the application is due the next business day.

ADDRESSES: Copies of the FY 2018 Application Guide and materials for the DLT Grant Program may be obtained through:

(1) The DLT website at https://www.rd.usda.gov/programs-services/distance-learning-telemedicine-grants, or

(2) The RUS Office of Loan Origination and Approval at 202-720-0800.

Completed applications may be submitted the following ways:

(1) Paper: Mail paper applications to the Rural Utilities Service, Telecommunications Program, 1400 Independence Ave. SW, Room 2844, STOP 1597, Washington, DC 20250-1597. Mark address with “Attention: Deputy Assistant Administrator, Office of Loan Origination and Approval, Rural Utilities Service.”

(2) Electronic: Submit electronic applications through Grants.gov. Information on electronic submission is available on the Grants.gov website (https://www.grants.gov) at any time, regardless of registration status. However, applicants must pre-register with Grants.gov to use the electronic submission option.

FOR FURTHER INFORMATION CONTACT: Shawn Arner, Deputy Assistant Administrator, Office of Loan Origination and Approval, Rural Utilities Service, U.S. Department of Agriculture, telephone: (202) 720-0800, fax:1-884-885-8179.

SUPPLEMENTARY INFORMATION:

Overview

Federal Agency: Rural Utilities Service (RUS).

Funding Opportunity Title: Distance Learning and Telemedicine Grants.

Announcement Type: Initial announcement.

Funding Opportunity Number: RUS-18-01-DLT.

Catalog of Federal Domestic Assistance (CFDA) Number: 10.855.

Dates: Submit completed paper or electronic applications for grants according to the deadline indicated in Section D(5).

Items in Supplementary Information

A. Program Description

B. Federal Award Information

C. Eligibility Information

D. Application and Submission Information

E. Application Review Information

F. Award Administration Information

G. Agency Contacts

H. Other Information

A. Program Description

DLT grants are designed to provide access to education, training, and health care resources for rural Americans. The DLT Program is authorized by 7 U.S.C. 950aaa and provides financial assistance to encourage and improve telemedicine and distance learning services in rural areas through the use of telecommunications, computer networks, and related advanced technologies by students, teachers, medical professionals, and rural residents. The regulation for the DLT Program can be found at 7 CFR part 1734.

The grants, which are awarded through a competitive process, may be used to fund telecommunications-enabled information, audio and video equipment, and related advanced technologies which extend educational and medical access into rural areas. Grants are intended to benefit end users in rural areas, who are often not in the same location as the source of the educational or health care service.

As in years past, the FY 2018 DLT Grant Application Guide has been updated based on program experience. The Application Guide has also been updated to reflect the new program regulations, 7 CFR 1734. All applicants should carefully review and prepare their applications according to instructions in the FY 2018 Application Guide and sample materials. Expenses incurred in developing applications will be at the applicant's own risk.

B. Federal Award Information

Under 7 CFR 1734.24, the Administrator will establish the maximum and minimum amounts of a grant to be made available to an individual recipient for each fiscal year. For FY 2018 the minimum amount of a grant is set at $50,000 and the maximum amount is set at $500,000.

The Agency will make awards, and the successful applicants will be required to execute documents appropriate to the project before funding will be advanced. Award documents specify the term of each award. The standard grant agreement is available at https://www.rd.usda.gov/files/DLTGrantAgreement-2017.pdf. Prior DLT grants cannot be renewed; however, existing DLT awardees can submit applications for new projects which will be evaluated as new applications. Grant applications must be submitted during the application window.

C. Eligibility Information

1. Eligible Applicants (See 7 CFR 1734.4)

a. Only entities legally organized as one of the following are eligible for DLT Grant Program financial assistance:

i. An incorporated organization;

ii. An Indian tribe or tribal organization, as defined in 25 U.S.C. 450b (b) and (c);

iii. A state or local unit of government;

iv. A consortium, as defined in 7 CFR 1734.3; or

v. Other legal entity, including a private corporation organized on a for-profit or not-for-profit basis.

b. Corporations that have been convicted of a Federal felony within the past 24 months are not eligible. Any corporation that has been assessed to have any unpaid federal tax liability, for which all judicial and administrative remedies have been exhausted or have lapsed and is not being paid in a timely manner pursuant to an agreement with the authority responsible for collecting the tax liability, is not eligible for financial assistance.

c. Applicants must have a Dun and Bradstreet (D&B) Data Universal Numbering System (DUNS) number and have an active registration at time of application submittal with current information in the System for Award Management (SAM) (previously the Central Contractor Registry (CCR)) at https://www.sam.gov. Further information regarding DUNS number acquisition and SAM registration can be found in Sections D(3) and D(4) of this notice.

2. Cost Sharing or Matching

The DLT Program requires matching contributions for grants. See 7 CFR 1734.22 and the FY 2018 Application Guide for information on required matching contributions.

a. Grant applicants must demonstrate matching contributions, in cash or in kind (new or non-depreciated items), of at least fifteen (15) percent of the grant amount requested. Matching contributions must be used for approved purposes for grants (see 7 CFR 1734.21 and Section D(7)(b) of this Notice).

b. Applications that do not provide sufficient documentation of the required 15 percent match will be declared ineligible.

c. Discounts and Donations. In review of applications submitted in the past, it was determined that vendor donated matches did not have value without a required, subsequent purchase of vendor equipment or licenses with grant funds. For example, in many grant applications, software licenses were donated in satisfaction of the matching requirement. However, such licenses only worked with, and thus only had value with, the same vendor's equipment. Additionally, by side agreement, grant applicants were required to purchase the vendor's equipment once the grant was made with grant funds. The agency determined that such a practice violated federal procurement standards found at 2 CFR 200.317-326, given that the grant applicant could not put the purchase out for bid, either because no other equipment would work with the “donated” licenses, or because they were contractually obligated to buy the equipment before the grant was made. As such, the agency has determined that vendor matches requiring subsequent purchases, either by necessity or contract, are not permitted.

d. Eligible Equipment and Facilities. See 7 CFR 1734 and the FY 2018 Application Guide for more information regarding eligible and ineligible items.

3. Other

a. Ineligibility of Projects in Coastal Barrier Resources Act Areas. Projects located in areas covered by the Coastal Barrier Resources Act (16 U.S.C. 3501 et seq.) are not eligible for financial assistance from the DLT Program. See 7 CFR 1734.23(a)(11).

D. Application and Submission Information

The FY 2018 Application Guide provides specific, detailed instructions for each item of a complete application. The Agency emphasizes the importance of including every required item and strongly encourages applicants to follow the instructions carefully, using the examples and illustrations in the FY 2018 Application Guide. Prior to official submission of applications, applicants may request technical assistance or other application guidance from the Agency, as long as such requests are made prior to May 18, 2018. Agency contact information can be found in Section G of this NOSA. The Agency will not solicit or consider new scoring or eligibility information that is submitted after the application deadline; however the Agency reserves the right to contact applicants to seek clarification on materials contained in the submitted application. See the FY 2018 Application Guide for a full discussion of each required item. For requirements of completed grant applications, refer to 7 CFR 1734.25.

1. Address To Request Application Package.

The FY 2018 Application Guide, copies of necessary forms and samples, and the DLT Program regulation are available as follows:

a. Electronic Copies are available at https://www.rd.usda.gov/programs-services/distance-learning-telemedicine-grants.

b. Paper Copies are available from the Rural Utilities Service, Office of Loan Origination and Approval, 202-720-0800.

2. Content and Form of Application Submission

a. Carefully review the FY 2018 DLT Application Guide and 7 CFR part 1734, which detail all necessary forms and worksheets. A table summarizing the necessary components of a complete application can be found in this section.

b. Description of Project Sites. Most DLT grant projects contain several project sites. Site information must be consistent throughout the application. The Agency has provided a site worksheet that lists the required information. Applicants should complete the site worksheet with all requisite information. Applications without consistent site information will be returned as ineligible.

c. Submission of Application Items. Given the high volume of program interest, applicants should submit the required application items in the order indicated in the FY 2018 Application Guide. Applications that are not assembled and tabbed in the specified order prevent timely determination of eligibility. For applications with inconsistencies among submitted copies, the Agency will base its evaluation on the original signed application received.

d. Table of Required Application Items.

Application item | Regulation | Comments
SF-424 (Application for Federal Assistance Form) | 7 CFR 1734.25(a) | Form provided in FY 2018 Application Tool Kit.
Executive Summary of the Project | 7 CFR 1734.25(b) | Narrative.
Scoring Criteria and Special Consideration Documentation | 7 CFR 1734.25(c) | Provide documentation on how applicant meets each of the scoring criteria and special considerations contained in § 1734.26.
Scope of Work | 7 CFR 1734.25(d) | Narrative & Documentation.
Financial Information and Sustainability | 7 CFR 1734.25(e) | Narrative.
Statement of Experience | 7 CFR 1734.25(f) | Narrative.
Evidence of Leverage and Funding Commitments from All Sources | 7 CFR 1734.25(g) | Agency Worksheet and narrative.
Telecommunications System Plan | 7 CFR 1734.25(h) | Documentation.
Compliance with other Federal Statutes | 7 CFR 1734.25(i) | Form provided in FY 2018 Application Tool Kit.
Non-Duplication of Services |  | Form provided in FY 2018 Application Tool Kit.
Assurance Regarding Felony Conviction or Tax Delinquent Status for Corporate Applicants |  | Form provided in FY 2018 Application Tool Kit.
Environmental Review Requirements | 7 CFR 1734.25(j) | Form provided in FY 2018 Application Tool Kit.
Evidence of Legal Authority and Existence | 7 CFR 1734.25(k) | Documentation.
Federal Debt Certification | 7 CFR 1734.25(l) | Form provided in FY 2018 Application Tool Kit.
Consultation with USDA State Director | 7 CFR 1734.25(m) | Documentation.
Supplemental Information | 7 CFR 1734. 25(n) | Documentation.

e. Number of copies of submitted applications.

i. Paper submissions. Submit the original application and one (1) paper copy to RUS, as well as one digital copy on a Flash Drive. Submit one additional copy to the state government single point of contact as described in Subsection iii below.

ii. Electronic submissions. Submit the electronic application once. Do not send a paper copy to RUS. Applicants should identify and number each page in the same manner as the paper application. Submit one (1) additional copy to the State government single point of contact as described in Subsection iii below.

iii. State Government Single Point of Contact. Submit one (1) copy to the State government single point of contact, if one has been designated, at the same time as application submission to the Agency. If the project is located in more than one State, submit a copy to each applicable State government single point of contact. Go to https://www.whitehouse.gov/wp-content/uploads/2017/11/Intergovernmental_-Review-_SPOC_01_2018_OFFM.pdf for state office contact information.

3. Dun and Bradstreet Universal Numbering System (DUNS) Number

The applicant for a grant must supply a DUNS number as part of the application. The applicant can obtain the DUNS number free of charge by calling Dun and Bradstreet. Go to http://fedgov.dnb.com/webform for more information on DUNS number acquisition or confirmation.

4. System for Award Management (SAM)

Prior to submitting a paper or an electronic application, the applicant must register in SAM at https://www.sam.gov. Throughout the RUS application review and the active Federal grant funding period, SAM registration must be active with current data at all times. To maintain active SAM registration, the applicant must review and update the information in the SAM database annually from the date of initial registration or from the date of the last update. The applicant must ensure that the information in the database is current, accurate, and complete.

5. Submission Dates and Times

a. Paper applications must be postmarked and mailed, shipped, or sent overnight no later than June 4, 2018 to be eligible for FY 2018 grant funding. Late applications, applications which do not include proof of mailing or shipping, and incomplete applications are not eligible for FY 2018 grant funding.

i. Address paper applications to the Telecommunications Program, RUS, U.S. Department of Agriculture, 1400 Independence Ave. SW, Room 2844, STOP 1597, Washington, DC 20250-1597. Applications should be marked, “Attention: Deputy Assistant Administrator, Office of Loan Origination and Approval.”

ii. Paper applications must show proof of mailing or shipping by the deadline consisting of one of the following:

A. A legibly dated U.S. Postal Service (USPS) postmark;

B. A legible mail receipt with the date of mailing stamped by the USPS; or

C. A dated shipping label, invoice, or receipt from a commercial carrier.

iii. Due to screening procedures at the USDA, packages arriving via regular mail through the USPS are irradiated, which can damage the contents and delay delivery to RUS. RUS encourages applicants to consider the impact of this procedure when selecting their application delivery method.

b. Electronic grant applications must be received no later than June 4, 2018 to be eligible for FY 2018 funding. Late or incomplete applications will not be eligible for FY 2018 grant funding.

i. Applications will not be accepted via fax or electronic mail.

ii. Electronic applications for grants must be submitted through the Federal government's Grants.gov initiative at https://www.grants.gov.

iii. Grants.gov requires some credentialing and online authentication procedures. These procedures may take several business days to complete. Therefore, the applicant should complete the registration, credentialing, and authorization procedures at Grants.gov before submitting an application. Instructions on all required passwords, credentialing, and software are available on Grants.gov.

iv. If system errors or technical difficulties occur, use the customer support resources available at the Grants.gov website.

c. If the submission deadline falls on Saturday, Sunday, or a Federal holiday, the application is due the next business day.

6. Intergovernmental Review

The DLT Grant Program is subject to Executive Order 12372, “Intergovernmental Review of Federal Programs.” As stated in section D(2)(e)(iii) of this notice, a copy of a DLT grant application must be submitted to the state single point of contact, if one has been designated.

7. Funding Restrictions

a. Hub sites located in non-rural areas are not eligible for grant assistance unless they are necessary to provide DLT services to rural residents at end user sites. See 7 CFR 1734.2(h).

b. Ineligible and Eligible Items. Applicants should exclude ineligible items and ineligible matching contributions from the budget unless those items are clearly documented as vital to the project. See the FY 2018 Application Guide for a recommended budget format and detailed budget compilation instructions.

E. Application Review Information

1. Criteria

Grant applications are scored competitively and are subject to the criteria listed below. See 7 CFR 1734.26, the FY 2018 Application Guide, and the funding opportunity posted on https://www.grants.gov for more information on the scoring criteria.

a. Rurality Category. Rurality of the end user sites proposed in the application (up to 40 points).

b. Economic Need Category. County poverty percentage of the end user sites proposed in the application. The percentages must be determined by utilizing the United States Census Small Area Income and Poverty Estimates (SAIPE) Program (up to 30 points).

c. Service Needs and Benefits Category. An analysis addressing the extent to which the proposed project meets the need for distance learning or telemedicine services in rural areas, benefits derived from the services proposed by the project, and local community involvement in planning, implementing and financial assistance of the project. RUS will consider the extent of the applicant's analysis explaining the challenges imposed by the following criteria, how the project proposes to address these issues and why the applicant cannot complete the project without a grant (up to 30 points):

i. Economic characteristics.

ii. Educational challenges.

iii. Health care needs.

d. Special Consideration. Special consideration points will be awarded for projects having the following primary purpose (up to 10 points):

i. Telemedicine projects which propose to provide treatment and counseling services for opioid abuse; and

ii. Distance learning projects which propose to provide access to Science, Technology, Engineering and Math (STEM) courses.

2. Review and Selection Process

Grant applications are ranked by the final score. RUS selects applications based on those rankings, subject to the availability of funds. In addition, the Agency has the authority to limit the number of applications selected in any one state or for any one project during a fiscal year. See 7 CFR 1734.27 for a description of the grant application selection process. In addition, an application receiving fewer points can be selected over a higher scoring application in the event that there are insufficient funds available to cover the costs of the higher scoring application, as stated in 7 CFR 1734.27(b)(3).

a. In addition to ranking the applications based on the scoring criteria, the Agency evaluates grant applications on the following items, in accordance with 7 CFR 1734.27(c):

i. Financial feasibility. A proposal that does not indicate financial feasibility or that is not sustainable will not be approved for an award.

ii. Technical considerations. An application that contains flaws that would prevent the successful implementation, operation, or sustainability of the project will not be approved for an award.

iii. Other aspects of proposals that contain inadequacies that would undermine the ability of the project to comply with the policies of the DLT Program.

F. Federal Award Administration Information

1. Federal Award Notices

RUS notifies applicants whose projects are selected for awards by mailing or emailing a copy of an award letter. The receipt of an award letter does not authorize the applicant to commence performance under the award. After sending the award letter, the Agency will send an agreement that contains all the terms and conditions for the grant. An applicant must execute and return the grant agreement, accompanied by any additional items required by the agreement, within the number of days specified in the selection notice letter.

2. Administrative and National Policy Requirements

The items listed in Section E of this notice, the DLT Grant Program regulation, FY 2018 Application Guide and accompanying materials implement the appropriate administrative and national policy requirements, which include but are not limited to:

a. Executing a DLT Grant Agreement.

b. Using Form SF 270, “Request for Advance or Reimbursement,” to request reimbursements (along with the submission of receipts for expenditures, timesheets, and any other documentation to support the request for reimbursement).

c. Providing annual project performance activity reports until the expiration of the award.

d. Ensuring that records are maintained to document all activities and expenditures utilizing DLT grant funds and matching funds (receipts for expenditures are to be included in this documentation).

e. Providing a final project performance report.

f. Complying with policies, guidance, and requirements as described in the following applicable Code of Federal Regulations, and any successor regulations:

i. 2 CFR parts 200 and 400 (Uniform Administrative Requirements, Cost Principles, and Audit Requirements for Federal Awards).

ii. 2 CFR parts 417 and 180 (Government-wide Nonprocurement Debarment and Suspension).

g. Signing Form AD-3031, “Assurance Regarding Felony Conviction or Tax Delinquent Status for Corporate Applicants” (for corporate applicants only).

h. Complying with Executive Order 13166, “Improving Access to Services for Persons with Limited English Proficiency.” For information on limited English proficiency and agency-specific guidance, go to https://www.LEP.gov.

i. Accountability and Compliance with Civil Rights Laws.

1901.201 Purpose. This subpart contains policies and procedures for implementing the regulations of the Department of Agriculture issued pursuant to Title VI of the Civil Rights Act of 1964, Title VIII of the Civil Rights Act of 1968, Title IX, Section 504 of the Rehabilitation Act of 1973, Executive Order 13166, Executive Order 11246, and the Equal Credit Opportunity Act of 1974, as they relate to the Rural Development (Rural Development). Nothing herein shall be interpreted to prohibit preference to American Indians on Indian Reservations.

The policies contained in subpart E of part 1901 apply to recipients. Recipients of Federal financial assistance are required to comply with the applicable Federal, State and local laws. Title VI of the Civil Rights Act of 1964 and Section 504 of the Rehabilitation Act prohibit discrimination by recipients of Federal financial assistance. Recipients are required to adhere to specific outreach activities. These outreach activities include, contacting community organizations and leaders that include minority leaders, advertising in local newspapers and other media throughout the entire service area, and including the nondiscrimination slogan, “This is an Equal Opportunity Program. Discrimination is prohibited by Federal Law, “in methods that may include, but not be limited to, advertisements, public broadcasts, and printed materials, such as, brochures and pamphlets. All recipients must submit and have on file a valid Form RD 400-1, “Equal Opportunity Agreement,” and RUS Form 266 or RD Form 400-4, “Assurance Agreement.”

By signing Form 400-4 or 266, Assurance Agreement recipients affirm that they will operate the program free from discrimination. The recipient will maintain the race and ethnic data on the board members and beneficiaries of the program. The Recipient will provide alternative forms of communication to persons with limited English proficiency. The Agency will conduct Civil Rights Compliance Reviews on recipients to identify the collection of racial and ethnic data on Program beneficiaries. In addition, the Compliance review will ensure that equal access to the Program benefits and activities are provided for persons with disabilities and language barriers.

3. Reporting

a. Performance reporting. All recipients of DLT financial assistance must provide annual performance activity reports to RUS until the project is complete and the funds are expended. A final performance report is also required; the final report may serve as the last annual report. The final report must include an evaluation of the success of the project in meeting the DLT Grant Program objectives. See 7 CFR 1734.7 for additional information on these reporting requirements.

b. Financial reporting. All recipients of DLT financial assistance must provide an annual audit, beginning with the first year in which a portion of the financial assistance is expended. Audits are governed by USDA audit regulations. See 7 CFR 1734.8 and 2 CFR part 200, subpart F for a description of the audit requirements.

c. Recipient and Sub-recipient Reporting. The applicant must have the necessary processes and systems in place to comply with the reporting requirements for first-tier sub-awards and executive compensation under the Federal Funding Accountability and Transparency Act of 2006 in the event the applicant receives funding, unless such applicant is exempt from such reporting requirements pursuant to 2 CFR 170.110(b). The reporting requirements under the Transparency Act pursuant to 2 CFR part 170 are as follows:

i. First Tier Sub-Awards of $25,000 or more (unless they are exempt under 2 CFR part 170) must be reported by the recipient to https://www.fsrs.gov no later than the end of the month following the month the obligation was made. Please note that currently underway is a consolidation of eight federal procurement systems, including the Federal Sub-award Reporting System (FSRS), into one system, the System for Award Management (SAM). As a result, the FSRS will soon be consolidated into and accessed through https://www.sam.gov.

ii. The total compensation of the recipient's executives (the five most highly compensated executives) must be reported by the recipient (if the recipient meets the criteria under 2 CFR part 170) to https://www.sam.gov by the end of the month following the month in which the award was made.

iii. The total compensation of the sub-recipient's executives (the five most highly compensated executives) must be reported by the sub-recipient (if the sub-recipient meets the criteria under 2 CFR part 170) to the recipient by the end of the month following the month in which the sub-award was made.

d. Recordkeeping and Accounting. The agreement will contain provisions related to record keeping and accounting requirements.

G. Federal Awarding Agency Contacts

1. Website: https://www.rd.usda.gov/programs-services/distance-learning-telemedicine-grants. The DLT website maintains up-to-date resources and contact information for the DLT program.

2. Telephone: 202-720-0800.

3. Fax: 1-844-885-8179.

4. Email: dltinfo@wdc.usda.gov.

5. Main point of contact: Shawn Arner, Deputy Assistant Administrator, Office of Loan Origination and Approval, Rural Utilities Service, U.S. Department of Agriculture.

H. Other Information

1. USDA Non-Discrimination Statement

In accordance with Federal civil rights law and USDA civil rights regulations and policies, the USDA, its Agencies, offices, and employees, and institutions participating in or administering USDA programs are prohibited from discriminating based on race, color, religion, sex, age, national origin, marital status, sex, gender identity (including gender expression), sexual orientation, familial status, disability, limited English proficiency, or because all or a part of an individual's income is derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the responsible Agency or USDA's TARGET Center at 202-720-2600 (voice and TDD) or contact USDA through the Federal Relay Service at (800) 877-8339. Additionally, program information may be made available in languages other than English. To file a program discrimination complaint, complete the USDA Program Discrimination Complaint Form, AD-3027, found online at https://www.ascr.usda.gov/ad-3027-usda-program-discrimination-complaint-form and at any USDA office or write a letter addressed to USDA and provide in the letter all of the information requested in the form.

To request a copy of the complaint form, call (866) 632-9992. Submit your completed form or letter to USDA by:

a. Mail: U.S. Department of Agriculture, Office of the Assistant Secretary for Civil Rights, 1400 Independence Avenue SW, Washington, DC 20250-9410;

b. Facsimile: (202) 690-7442; or

c. Email: at program.intake@usda.gov.

d. USDA is an equal opportunity provider, employer, and lender.

Dated: March 22, 2018.
Christopher A. McLean,
Acting Administrator, Rural Utilities Service.

[FR Doc. 2018-06503 Filed 4-2-18; 8:45 am]

BILLING CODE P